DEPARTMENT OF COMMERCE

Foreign-Trade Zones Board

[B-63-2015]

Foreign-Trade Zone (FTZ) 33—Pittsburgh, Pennsylvania, Notification of Proposed Production Activity, DNP Imagingcomm America Corporation, Subzone 33E, (Thermal Transfer Ribbon Master Rolls), Mount Pleasant, Pennsylvania

DNP Imagingcomm America Corporation (DNP), operator of Subzone 33E, submitted a notification of proposed production activity to the FTZ Board for its facility within Subzone 33E, located in Mount Pleasant, Pennsylvania. The notification conforming to the requirements of the regulations of the FTZ Board (15 CFR 400.22) was received on September 4, 2015.

DNP already has authority to produce thermal transfer ribbon (TTR) and monochrome TTR printer rolls using certain foreign-sourced components within Subzone 33E. The current request would add the production of TTR master rolls using foreign-sourced rolls of polyethylene terephthalate (PET) film to the scope of authority. Pursuant to 15 CFR 400.14(b), the additional FTZ activity would be limited to the specific foreign-status material and specific finished product described in the submitted notification (as described below) and subsequently authorized by the FTZ Board.

Production under FTZ procedures could exempt DNP from customs duty payments on the foreign-status rolls of PET film (4.2% duty rate) used in export (an estimated 40 percent of shipments). On its domestic sales, DNP would be able to choose the duty rate during customs entry procedures that applies to TTR master rolls (duty rate 3.7%) for the foreign-status PET film. Customs duties also could possibly be deferred or reduced on foreign-status production equipment.

The request notes that DNP's proposed activity would involve PET film that is subject to antidumping/countervailing duty (AD/CVD) orders. The FTZ Board's regulations (15 CFR 400.14(e)) require that merchandise subject to AD/CVD orders be admitted to the zone in privileged foreign status (19 CFR 146.41). DNP's request indicates that any PET film subject to an AD/CVD order, proceeding, or suspension of liquidation under AD/CVD procedures would be used only in production for export (no TTR master rolls made from PET film subject to AD/CVD orders would be shipped for U.S. consumption).

Public comment is invited from interested parties. Submissions shall be addressed to the FTZ Board's Executive Secretary at the address below. The closing period for their receipt is November 4, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Diane Finver at Diane.Finver@trade.gov or (202) 482-1367.

Dated: September 17, 2015.
Andrew McGilvray,
Executive Secretary.

[FR Doc. 2015-24453 Filed 9-24-15; 8:45 am]

BILLING CODE 3510-DS-P